DEPARTMENT OF DEFENSE

Department of the Navy

[Docket ID: USN-2013-0045]

Privacy Act of 1974; System of Records

AGENCY: Department of the Navy, DoD.

ACTION: Notice to alter a System of Records.

SUMMARY: The Department of the Navy proposes to alter the system of records, N05880-2, entitled “Admiralty Claims Files” in its inventory of record systems subject to the Privacy Act of 1974, as amended. This system will be used to evaluate and settle Admiralty tort claims asserted for and against the Department of the Navy involving death, personal injury, property damage, or salvage, and to provide litigation support to the Department of Justice.

DATES: This proposed action will be effective on January 7, 2014 unless comments are received which result in a contrary determination. Comments will be accepted on or before January 6, 2014.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on October 24, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 3, 2013.
Aaron Siegel,
Alternate OSD Federal Register Liaison Officer, Department of Defense.

N05880-2

System Name:

Admiralty Claims Files (May 9, 2003, 68 FR 24959).

Changes:

* * * * *

System Location:

Delete entry and replace with “Office of the Judge Advocate General (Admiralty and Maritime Law), Department of the Navy, 1322 Patterson Avenue SE., Suite 3000, Washington Navy Yard, Washington, DC 20374-5066.”

Categories of Individuals Covered by the System:

Delete entry and replace with “Any individual or entity who has asserted a maritime tort claim against the Department of the Navy, is the subject of a maritime tort claim by the Department of the Navy, or is a party to maritime tort litigation involving the Department of the Navy.”

Categories of Records in the System:

Delete entry and replace with “The files may contain claims filed, correspondence, investigative reports, accident reports, medical and dental records, x-rays, photographs, drawings, legal memoranda, settlement agreements, releases, deck logs, litigation reports, jury verdict research evaluation guides, court records involving litigation reports and related matters.

Depending on the facts of the claim or investigation, files may include any of the following: name, Social Security Number(SSN), truncated SSN, mariner credentials, spouse and children's name, bank account and routing number, work identification and badge number, citizenship, race/ethnicity, physically descriptive characteristics, birth date, personal cell telephone number, home telephone number, personal email address, home address, location, date and type of incident, file number, ship name and hull number, military records, educational certificate and degree, medical records, witness descriptions, claimant's alleged damages.”

Authority for Maintenance of the System:

Delete entry and replace with “44 U.S.C. section 3101, Records Management; 10 U.S.C. section 5013, Secretary of the Navy; 10 U.S.C. section 5043, Commandant of the Marine Corps; 10 U.S.C. sections 5031-5033, 5035-5036, Office of the Chief of Naval Operations; 10 U.S.C. sections 5148-5149, Office of the Judge Advocate General; 10 U.S.C. sections 7622-7623, Admiralty claims; 32 CFR section 752, Admiralty Claims; DoD 6025.18-R, DoD 6025.18-R, DoD Health Information Privacy Regulation; and E.O. 9397(SSN), as amended.”

Purpose(s):

Delete entry and replace with “To evaluate and settle Admiralty tort claims asserted for and against the Department of the Navy involving death, personal injury, property damage, or salvage, and to provide litigation support to the Department of Justice.”

Routine Uses of Records Maintained in the System, Including Categories of Users and the Purposes of Such Uses:

Delete entry and replace with “In addition to those disclosures generally permitted under 5 U.S.C. 552a(b) of the Privacy Act of 1974, as amended, these records contained therein may specifically be disclosed outside the Department of Defense (DoD) as a routine use pursuant to 5 U.S.C. 552a(b)(3) as follows:

The records of investigations are provided to agents and authorized representatives of persons involved in the incident, for use in legal or administrative matters.

Investigations are furnished to agencies of the Department of Justice and court authorities for use in connection with civil court proceedings.

To contractors for use in connection with settlement, adjudication, or defense of claims by or against the United States, and, in certain circumstances, for use in design and evaluation of products, services, and systems.

To agencies of Federal, State, or local court authorities, administrative authorities, and regulatory authorities, for use in connection with civilian and military civil, administrative, and regulatory proceedings and actions.

If the records contain evidence of criminal activity, to appropriate Federal, State, or local law enforcement agencies.

The DoD Blanket Routine Uses that appear at the beginning of the Navy's compilation of system of records notices may apply to this system.

Note: This system of records contains Individually Identifiable Health Information. The DoD Health Information Privacy Regulation (DoD 6025.18-R) issued pursuant to the Health Insurance Portability and Accountability Act of 1996, applies to most such health information. DoD 6025.18R may place additional procedural requirements on the uses and disclosures of such information beyond those found in the Privacy Act of 1974, as amended or mentioned in this system records notice.”

* * * * *

Storage:

Delete entry and replace with “Paper file folders and electronic storage media.”

Retrievability:

Delete entry and replace with “Name of the ship or naval unit and the year it was closed or by name of claimant in cases of claims against the Department of Navy.”

Safeguards:

Delete entry and replace with “Files are maintained in file cabinets or other storage devices under the control of authorized personnel during working hours. The office space in which the file cabinets and storage devices are located is locked outside of official working hours. Access to the installation is protected by uniformed guards requiring positive identification for admission and access to the building is restricted to authorized persons. Access to the database system is controlled by Common Access Card (CAC).”

Retention and Disposal:

Delete entry and replace with “Claims files are retained in the Admiralty Division for four years from the calendar year in which the file was closed. Each calendar year, admiralty claims files are reviewed. After four years, Admiralty Investigation reports from the file are sent to the Washington National Records Center (NRC). All other documents in the file are burned or shredded. Admiralty records held by NRC are reviewed 75 years from date of shipment for destruction or further retention. Electronic records are destroyed after four years.

Historically significant records are retained in the Admiralty Division and periodically reviewed for retention, shipment to NRC, submission to the Naval History and Heritage Command (NHHC), or destruction if no longer needed.”

System Manager(s) and Address:

Delete entry and replace with “Deputy Assistant Judge Advocate General (Admiralty and Maritime Law), Office of the Judge Advocate General, Department of the Navy, 1322 Patterson Avenue SE., Suite 3000, Washington Navy Yard, Washington, DC 20374-5066.”

Notification procedure:

Delete entry and replace with “Individuals seeking to determine whether information about themselves is contained in this system of records should address written inquiries to the Deputy Assistant Judge Advocate General (Admiralty and Maritime Law), Office of the Judge Advocate General, Department of the Navy, 1322 Patterson Avenue SE., Suite 3000, Washington Navy Yard, Washington, DC 20374-5066.

Requests should contain the requesting individual's complete name, the location and date of incident, type of incident, file number, ship name and hull number. Written requests must be signed by the requesting individual.

The system manager may require an original signature or a notarized signature as a means of proving the identity of the individual requesting access to the records.”

Record Access Procedures:

Delete entry and replace with “Individuals seeking access to information about themselves contained in this system of records should address written inquiries to the Deputy Assistant Judge Advocate General (Admiralty and Maritime Law), Office of the Judge Advocate General, Department of the Navy, 1322 Patterson Avenue SE., Suite 3000, Washington Navy Yard, Washington, DC 20374-5066.

Requests should contain the requesting individual's complete name, the location and date of incident, type of incident, file number, ship name and hull number. Written requests must be signed by the requesting individual.

The system manager may require an original signature or a notarized signature as a means of proving the identity of the individual requesting access to the records.”

* * * * *

Record Source Categories:

Delete entry and replace with “Individuals who were involved in, have witnessed, or possess relevant information about an admiralty incident; medical, dental and military records; and deck logs and ship's documents containing relevant information about an admiralty incident.”

* * * * *

[FR Doc. 2013-29129 Filed 12-5-13; 8:45 am]

BILLING CODE 5001-06-P